FEDERAL ELECTION COMMISSION

Sunshine Act Meeting

TIME AND DATE: Thursday, March 25, 2021 at 10:00 a.m.

PLACE: Virtual Meeting. Note: Because of the COVID-19 pandemic, we will conduct the open meeting virtually. If you would like to access the meeting, see the instructions below.

STATUS: This meeting will be open to the public. To access the virtual meeting, go to the Commission's website www.fec.gov and click on the banner to be taken to the meeting page.

MATTERS TO BE CONSIDERED:

Draft Interpretive Rule on Use of Campaign Funds by Members of Congress for Personal and Residential Security

Draft Advisory Opinion 2021-03: National Republican Senatorial Committee (NRSC) and National Republican Congressional Committee (NRCC)

Audit Division Recommendation Memorandum on Dr. Raul Ruiz for Congress (A19-03)

Proposed Modifications to Program for Requesting Consideration of Legal Questions by the Commission (LRA 1129)

Proposed Final Audit Report on the Mississippi Republican Party (A17-15)

Management and Administrative Matters

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2021-05986 Filed 3-18-21; 4:15 pm]

BILLING CODE 6715-01-P